ENVIRONMENTAL PROTECTION AGENCY

[FRL-7070-4]

Office of Research and Development, National Center for Environmental Assessment, Board of Scientific Counselors' Subcommittee Meeting

AGENCY: Environmental Protection Agency (EPA).

ACTION: Notice, revised meeting times on October 10-11, 2001.

SUMMARY: Pursuant to the Federal Advisory Committee Act, Public Law 92-463, as amended (5 U.S.C., App. 2) notification is hereby given that the U.S. Environmental Protection Agency, Office of Research and Development (ORD), National Center for Environmental Assessment (NCEA), Board of Scientific Counselors Subcommittee (BOSC), will hold a public meeting.

DATES: The meeting will be held on October 10 and 11, 2001. The meeting will begin at 8:30 am on October 10 and adjourn at approximately 6:00 pm. On October 11 the meeting will begin at 8:00 am for approximately one and one quarter hour. The Sub Committee Members will then have a writing session for three hours. The Members will need to leave no later than noon due to the increased security at the airports. All times noted are Eastern Time.

ADDRESSES: The meeting will be held at the Charles Glover Building, 808 17th Street, NW, 4th Floor Conference Room, Washington, DC 20006. Seating is limited; therefore, you must notify Joanna Foellmer, Designated Federal Official, Board of Scientific Counselors Subcommittee, to confirm attendance no later than October 4 (address listed below).

FOR FURTHER INFORMATION CONTACT: Joanna Foellmer at (202) 564-3208.

SUPPLEMENTARY INFORMATION: The Board of Scientific Counselors (BOSC) was established to provide objective and independent counsel to the Office of Research and Development (ORD) on the management and operation of ORD's research programs. The primary functions of BOSC are: (1) to evaluate science and engineering research programs, laboratories, and research-management practices of ORD and recommend actions to improve their quality and/or strengthen their relevance to the mission of the EPA; and (2) to evaluate and provide advice concerning the use of peer review within ORD to sustain and enhance the quality of science in EPA.

In September 1997, a programmatic review of ORD's National Center of Environmental Assessment (NCEA) by an Ad Hoc Subcommittee of the BOSC provided an opportunity for NCEA to look at its past, present, and future. As part of the review, the staff and management of NCEA prepared a “Self-Study Report,” which was submitted to the BOSC Subcommittee for pre-meeting review. During the meeting, the Subcommittee discussed the Self-Study Report responses with NCEA management and staff. They gathered additional comments from the staff regarding the organization, management, human resources, and their professional relationships with the Agency and with external users of NCEA products. A final report from the BOSC Ad Hoc Subcommittee, dated April 1998, was submitted to NCEA. The final report included the conclusions and recommendations of the Subcommittee based on the input from the meeting, the Self Study Report, and the experience of the Subcommittee.

Since the 1998 report, NCEA has worked to refocus some of its activities and directions in response to the recommendations of the Subcommittee and in the context of the EPA and ORD Strategic Plans. As a next step, standing BOSC Subcommittees have been developed that will work closely with the individual ORD laboratories and centers. The membership of each of the standing subcommittees have been selected to reflect the missions of each ORD component within the risk assessment paradigm. The upcoming meeting is the first step in this working partnership between the NCEA-BOSC Subcommittee and NCEA management and staff.

NCEA is in process of developing a response to a series of questions that were submitted by the BOSC to help the NCEA-BOSC Subcommittee gauge the progress of the Center since its 1997 review and to evaluate science and planning activities that NCEA has developed to address the priorities and directions included in the EPA and ORD Strategic Plans. The October meeting will include a discussion of the NCEA responses to the questions and opportunities for public comment.

Anyone desiring a draft agenda may fax their request to Joanna Foellmer at Fax Number 202-565-0061. If you would prefer to e-mail your request, the address is: Foellmer.Joanna@epa.gov. Any member of the public wishing to make a presentation at the meeting should contact Joanna Foellmer, U.S. Environmental Protection Agency, Office of Research and Development, National Center for Environmental Assessment, (Mail Code: 8601D), 1200 Pennsylvania Avenue, N.W., Washington, DC 20460; or by telephone at (202) 564-3208. In general, each individual making an oral presentation will be limited to a total of three minutes. Requests for oral comments must be in writing (e-mail, fax or mail) and received by Joanna Foellmer no later than noon Eastern Time one week prior to the meeting. E-mail must be in WordPerfect formats suitable for Windows 95/98. The draft report will be available mid September. Anyone interested in a copy can download the file off the internet. Please contact Joanna Foellmer for the correct internet address.

Dated: September 25, 2001.
Art Payne,
Director, National Center for Environmental Assessment.

[FR Doc. 01-24602 Filed 10-1-01; 8:45 am]

BILLING CODE 6560-50-P